SURFACE TRANSPORTATION BOARD

[Docket No. FD 36618]

KS Railroad, a Division of KINKISHARYO International, L.L.C.—Operation Exemption—in Piscataway, N.J.

KS Railroad (KS), a noncarrier and division of KINKISHARYO International, L.L.C. (KII), has filed a verified notice of exemption pursuant to 49 CFR 1150.31 to operate on 1,173 feet, three inches of railroad track inside an existing industrial facility owned by KII in Piscataway, N.J. (the Line). The Line has no mileposts.

According to the verified notice, the Line is currently operated by KII as private track. KII has formed a new division, KS, to operate as a common carrier railroad to perform rail service for KII and other shippers that would locate at the facility. KS will acquire control over track at the facility and then operate the Line as a common carrier rail line and the remaining track as yard and industrial track. KS also anticipates entering into an interchange agreement with Consolidated Rail Corporation.

KS certifies that its annual projected revenues as a result of the transaction will not exceed those that would qualify it as a Class III carrier and will not exceed $5 million. KS states that no interchange commitments are being imposed on KS's operation.

The transaction may be consummated on or after August 27, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than August 19, 2022 (at least seven days before the exemption becomes effective).

All pleadings, referring to Docket No. FD 36618, must be filed with the Surface Transportation Board either via e-filing on the Board's website or in writing addressed to 395 E Street SW, Washington, DC 20423-0001. In addition, a copy of each pleading must be served on KS's representative, Eric M. Hocky, Clark Hill PLC, Two Commerce Square, 2001 Market St., Suite 2620, Philadelphia, PA 19103.

According to KS, this action is categorically excluded from environmental review under 49 CFR 1105.6(c) and from historic preservation reporting requirements under 49 CFR 1105.8(b).

Board decisions and notices are available at www.stb.gov.

Decided: August 5, 2022.
By the Board, Mai T. Dinh, Director, Office of Proceedings.
Brendetta Jones,
Clearance Clerk.

[FR Doc. 2022-17342 Filed 8-11-22; 8:45 am]

BILLING CODE 4915-01-P